NATIONAL FOUNDATION ON THE ARTS AND THE HUMANITIES

National Endowment for the Arts

National Council on the Arts 190th Meeting

AGENCY: National Endowment for the Arts, National Foundation on the Arts and Humanities.

ACTION: Notice of meeting.

SUMMARY: Pursuant to section 10(a)(2) of the Federal Advisory Committee Act (Pub. L. 92-463), as amended, notice is hereby given that a meeting of the National Council on the Arts will be held in Conference Rooms A & B at Constitution Center, 400 7th St. SW., Washington, DC 20506. Agenda times are approximate.

DATES: Friday, March 31, 2017 from 9:00 a.m. to 12:00 p.m.

FOR FURTHER INFORMATION CONTACT: Office of Public Affairs, National Endowment for the Arts, Washington, DC 20506, at 202/682-5570.

SUPPLEMENTARY INFORMATION: The meeting, in Conference Rooms A & B, is scheduled from 9:00 a.m. to 12:00 p.m. and will be open to the public on a space available basis. The tentative agenda is as follows: The meeting will begin at 9:00 a.m. with opening remarks and voting on recommendations for funding and rejection and guidelines, followed by updates from the Chairman. There also will be presentations related to several Arts Education projects supported by the National Endowment for the Arts, including: The Regional Arts and Culture Council (Oregon) presenting on their Right Brain Initiative; Paper Mill Playhouse (New Jersey) presenting on their autism-friendly theater performances; Architecture Resource Center (Connecticut) presenting on their design education program; ProjectSTEP (Massachusetts) presenting on their music education program, including a student presentation/performance; and Adventure Theatre (Maryland) presenting on its programs, including a vocal performance by students. After the presentations there will be concluding remarks from the Chairman and announcement of voting results. The meeting will adjourn at 12:00 p.m.

The session also will be webcast. To register to watch the webcasting of this open session of the meeting, go to https://www.arts.gov/event/2017/national-council-arts-march-2017-webcast.

If, in the course of the open session discussion, it becomes necessary for the Council to discuss non-public commercial or financial information of intrinsic value, the Council will go into closed session pursuant to subsection (c)(4) of the Government in the Sunshine Act, 5 U.S.C. 552b, and in accordance with the July 5, 2016 determination of the Chairman. Additionally, discussion concerning purely personal information about individuals, such as personal biographical and salary data or medical information, may be conducted by the Council in closed session in accordance with subsection (c)(6) of 5 U.S.C. 552b.

Any interested persons may attend, as observers, Council discussions and reviews that are open to the public. If you need special accommodations due to a disability, please contact the Office of Accessibility, National Endowment for the Arts, Constitution Center, 400 7th St. SW., Washington, DC 20506, 202/682-5567, Voice/T.T.Y. 202/682-5496, at least seven (7) days prior to the meeting.

Dated: March 8, 2017.
Kathy Plowitz-Worden,
Committee Management Officer, National Endowment for the Arts.

[FR Doc. 2017-04888 Filed 3-10-17; 8:45 am]

BILLING CODE 7537-01-P